DEPARTMENT OF STATE

[Public Notice 8262]

Biodiversity Beyond National Jurisdiction; Notice of Public Meeting

ACTION: Notice of public meeting.

SUMMARY: The Department of State will hold an information session regarding issues related to marine biodiversity in areas beyond national jurisdiction.

DATES: The public meeting will be held on April 23, 2013, 10:30am-12:00pm in Main State, Room 1105, Washington, DC. For the agenda, see SUPPLEMENTARY INFORMATION.

ADDRESSES: The meeting will be held at the Harry S. Truman Main State Building, Room 1105, 2201 C Street NW., Washington, DC 20520.

For Further Information & To Participate In The Meeting, Contact: If you would like to participate in this meeting, please send your (1) name, (2) organization/affiliation, and (3) email address and phone number, as well as any requests for reasonable accommodation, to BBNJ-Information-Session@state.gov.

SUPPLEMENTARY INFORMATION: In May 2013, the United States will participate in two workshops of the United Nations General Assembly Working Group on conservation and sustainable use of marine biological diversity beyond areas of national jurisdiction. The first workshop will focus on marine genetic resources; the second will focus on conservation and management tools. These workshops are intended to inform the discussion of delegates at the August meeting of the Working Group, in which the United States will also participate. Additional information on the Working Group can be found at this United Nations Web site: http://www.un.org/Depts/los/biodiversityworkinggroup/biodiversityworkinggroup.htm

We would like to invite interested stakeholders to share comments, concerns, and questions about these issues. We, in turn, will provide an overview of past discussions in the Working Group and our approach to the May workshops.

The information obtained from this session and any subsequent related meetings will be used to help us prepare for U.S. participation in international meetings and negotiations on marine biodiversity beyond national jurisdiction, such as the meeting of the UN BBNJ working group August 19-23, 2013.

Reasonable Accommodation

This meeting is physically accessible to people with disabilities. Requests for sign language interpretation or other reasonable accommodation should be directed to (see FOR FURTHER INFORMATION CONTACT) at least 5 days prior to the meeting date. Requests received after that date will be considered, but might not be possible to fulfill.

Personal data for entry into the Harry S. Truman building are requested pursuant to Pub.L.99-399 (Omnibus Diplomatic Security and Antiterrorism Act of 1986), as amended; Public Law107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: March 22, 2013.
Evan Bloom,
Office Director, Office of Ocean and Polar Affairs, Department of State.

[FR Doc. 2013-07398 Filed 3-28-13; 8:45 am]

BILLING CODE 4710-09-P